COMMISSION ON CIVIL RIGHTS

Agenda and Notice of Public Meeting of the Ohio Advisory Committee

Notice is hereby given, pursuant to the provisions of the rules and regulations of the U.S. Commission on Civil Rights, that a planning meeting of the Ohio Advisory Committee to the Commission will convene at 1 p.m. and adjourn at 5 p.m. on Thursday, March 20, 2003, at the University of Cincinnati School of Law, Clifton Avenue and Calhoun Street, Cincinnati, Ohio 45221. The purpose of the meeting is to discuss civil rights events and plan future activities.

Persons desiring additional information, or planning a presentation to the Committee, should contact Chairperson Lynwood L. Battle, Jr., 513-281-4330, or Constance M. Davis, Director of the Midwestern Regional Office, 312-353-8311 (TDD 312-353-8362). Hearing-impaired persons who will attend the meeting and require the services of a sign language interpreter should contact the Regional Office at least ten (10) working days before the scheduled date of the meeting.

The meeting will be conducted pursuant to the provisions of the rules and regulations of the Commission.

Dated at Washington, DC, February 27, 2003.
Ivy L. Davis,
Chief, Regional Programs Coordination Unit.

[FR Doc. 03-5139 Filed 3-4-03; 8:45 am]

BILLING CODE 6335-01-P